NUCLEAR REGULATORY COMMISSION

[NRC-2010-0190]

Notice Applications and Amendments to Facility Operating Licenses Involving Proposed No Significant Hazards Considerations and Containing Sensitive Unclassified Non-Safeguards Information and Order Imposing Procedures for Access to Sensitive Unclassified Non-Safeguards Information

I. Background

Pursuant to section 189a. (2) of the Atomic Energy Act of 1954, as amended (the Act), the U.S. Nuclear Regulatory Commission (the Commission or NRC staff) is publishing this notice. The Act requires the Commission to publish notice of any amendments issued, or proposed to be issued and grants the Commission the authority to issue and make immediately effective any amendment to an operating license upon a determination by the Commission that such amendment involves no significant hazards consideration, notwithstanding the pendency before the Commission of a request for a hearing from any person.

This notice includes notices of amendments containing sensitive unclassified non-safeguards information (SUNSI).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92(c), this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1 F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, or at http://www.nrc.gov/reading-rm/doc-collections/cfr/part002/part002-0309.html. Publicly available records will be accessible from the Agencywide Documents Access and Management System's (ADAMS) Public Electronic Reading Room on the Internet at the NRC Web site, http://www.nrc.gov/reading-rm.html. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this amendment action, see the application for amendment which is available for public inspection at the Commission's PDR, located at One White Flint North, Public File Area 01F21, 11555 Rockville Pike (first floor), Rockville, Maryland. Publicly available records will be accessible electronically from the ADAMS Public Electronic Reading Room on the Internet at the NRC Web site, http://www.nrc.gov/reading-rm/adams.html. If you do not have access to ADAMS or if there are problems in accessing the documents located in ADAMS, contact the PDR Reference staff at 1-800-397-4209, 301-415-4737, or by e-mail to pdr.resource@nrc.gov.

Carolina Power and Light Company, et al., Docket No. 50-400, Shearon Harris Nuclear Power Plant, Unit 1, Wake and Chatham Counties, North Carolina

Date of amendment request: March 23, 2010.

Description of amendment request: This amendment request contains sensitive unclassified non-safeguards information. The proposed amendment would revise Technical Specification Section 6.9.1.6 to add the U.S. Nuclear Regulatory Commission (NRC)-approved topical report (TR) EMF-2103(P)(A), Revision 0, “Realistic Large-Break LOCA [Loss-of-Coolant Accident] Methodology for Pressurized Water Reactors,” to the Core Operating Limits Report methodologies list. This change will allow the use of the thermal-hydraulic computer analysis code S-RELAP5 for the Final Safety Analysis Report (FSAR) Chapter 15 realistic large-break LOCA in the Shearon Harris Nuclear Power Plant, Unit 1 safety analyses. TR EMF-2103(P)(A), Revision 0, was approved by the NRC on April 9, 2003, for the application of the S-RELAP5 thermal-hydraulic analysis computer code to FSAR Chapter 15 realistic large-break LOCA.

Basis for proposed no significant hazards consideration determination: As required by 10 CFR 50.91(a), the licensee has provided its analysis of the issue of no significant hazards consideration, which is presented below:

1. Does the proposed change involve a significant increase in the probability or consequences of an accident previously evaluated?

Response: No.

The topical report has been reviewed and approved by the NRC for use in determining core operating limits and for evaluation of large break loss-of-coolant accidents. The core operating limits to be developed using the new methodologies for HNP [Shearon Harris Nuclear Power Plant, Unit 1] will be established in accordance with the applicable limitations as documented in the NRC Safety Evaluation Report. In the April 9, 2003, NRC SE [safety evaluation], the NRC concluded that the S-RELAP5 RLBLOCA [realistic large-break loss-of-coolant accident] methodology is acceptable for referencing in licensing applications in accordance with the stated limitations.

The proposed change enables the use of new methodology to re-analyze a large break loss-of-coolant accident. It does not, by itself, impact the current design bases. Revised analysis may either result in continued conformance with design bases or may change the design bases. If design basis changes result from a revised analysis, the specific design changes will be evaluated in accordance with HNP design change procedures and 10 CFR 50.59.

The proposed change does not involve physical changes to any plant structure, system, or component. Therefore, the probability of occurrence for a previously analyzed accident is not significantly increased.

The consequences of a previously analyzed accident are dependent on the initial conditions assumed for the analysis, the behavior of the fission product barriers during the analyzed accident, the availability and successful functioning of the equipment assumed to operate in response to the analyzed event, and the setpoints at which these actions are initiated.

The proposed methodologies will ensure that the plant continues to meet applicable design and safety analyses acceptance criteria. The proposed change does not affect the performance of any equipment used to mitigate the consequences of an analyzed accident. As a result, no analysis assumptions are impacted and there are no adverse effects on the factors that contribute to offsite or onsite dose as a result of an accident. The proposed change does not affect setpoints that initiate protective or mitigative actions. The proposed change ensures that plant structures, systems, and components are maintained consistent with the safety analysis and licensing bases.

Therefore, this amendment does not involve a significant increase in the probability or consequences of a previously analyzed accident.

2. Does the proposed change create the possibility of a new or different kind of accident from any accident previously evaluated?

Response: No.

The proposed change does not involve any physical alteration of plant systems, structures, or components. No new or different equipment is being installed and no installed equipment is being operated in a different manner. There is no change to the parameters within which the plant is normally operated or in the setpoints that initiate protective or mitigative actions. As a result, no new failure modes are being introduced.

Therefore, the proposed change will not create the possibility of a new or different kind of accident from any accident previously evaluated.

3. Does the proposed change involve a significant reduction in a margin of safety?

Response: No.

There is no impact on any margin of safety resulting from the incorporation of this new topical report into the Technical Specifications. If design basis changes result from a revised analysis that uses these new methodologies, the specific design changes will be evaluated in accordance with HNP design change procedures and 10 CFR 50.59. Any potential reduction in the margin of safety would be evaluated for that specific design change.

Therefore, this amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Acting Branch Chief: Douglas A. Broaddus

Exelon Generation Company, LLC, Docket Nos. 50-352 and 50-353, Limerick Generating Station, Units 1 and 2, Montgomery County, Pennsylvania

Date of amendment request: March 25, 2010.

Description of amendment request: This amendment request contains sensitive unclassified non-safeguards information (SUNSI). The proposed changes revise the operating license and technical specifications (TSs) to implement an increase of approximately 1.65% in rated thermal power from the current licensed thermal power of 3458 megawatts thermal (MWt) to 3515 MWt. The proposed changes are based on increased feedwater flow measurement accuracy, which will be achieved by utilizing Cameron International (formerly Caldon) CheckPIus Leading Edge Flow Meter ultrasonic flow measurement instrumentation. The proposed changes also modify certain TS setpoints and channel surveillance requirements associated with average power range monitor simulated thermal power. Additionally, the proposed changes include a modification to the standby liquid control system (SLCS), that allows operators to select two pumps instead of three for the automatic start function on an anticipated transient without scram (ATWS) signal.

Basis for proposed no significant hazards consideration determination: As required by 10 CFR 50.91(a), the licensee has provided its analysis of the issue of no significant hazards consideration, which is presented below, with Nuclear Regulatory Commission (NRC) edits in square brackets:

1. Does the proposed change involve a significant increase in the probability or consequences of an accident previously evaluated?

Response: No.

The proposed changes [other than those associated with the SLCS] do not affect system design or operation and thus do not create any new accident initiators or increase the probability of an accident previously evaluated. All accident mitigation systems will function as designed, and all performance requirements for these systems have been evaluated and were found acceptable. The SLCS performance requirements will be met with completion of the SLCS modification described in the proposed changes.

The primary loop components (e.g., reactor vessel, reactor internals, control rod drive housings, piping and supports, and recirculation pumps) remain within their applicable structural limits and will continue to perform their intended design functions. Thus, there is no increase in the probability of a structural failure of these components.

The nuclear steam supply systems will continue to perform their intended design functions during normal and accident conditions. The balance of plant systems and components continue to meet their applicable structural limits and will continue to perform their intended design functions. Thus, there is no increase in the probability of a failure of these components. The safety relief valves and containment isolation valves meet design sizing requirements at the uprated power level. Because the integrity of the plant will not be affected by operation at the uprated condition, [Exelon Generation Company, LLC] EGC has concluded that all structures, systems, and components required to mitigate a transient remain capable of fulfilling their intended functions.

A majority of the current safety analyses remain applicable, since they were performed at power levels that bound operation at a core power of 3515 MWt. Other analyses previously performed at the current power level have either been evaluated or re-performed for the increased power level. The results demonstrate that acceptance criteria of the applicable analyses continue to be met at the uprated conditions. The anticipated transient without scram event criteria will be met with completion of the SLCS modification described in the proposed changes. As such, all applicable accident analyses continue to comply with the relevant event acceptance criteria. The analyses performed to assess the effects of mass and energy releases remain valid. The source terms used to assess radiological consequences have been reviewed and determined to bound operation at the uprated condition.

The proposed changes add test requirements to TS instrument functions [that are changed by this license amendment and are] related to those variables that have a significant safety function to ensure that instruments will function as required to initiate protective systems or actuate mitigating systems at the point assumed in the applicable safety analysis. Surveillance tests are not an initiator to any accident previously evaluated. As such, the probability of any accident previously evaluated is not significantly increased. The added test requirements ensure that the systems and components required by the TS are capable of performing any mitigation function assumed in the accident analysis.

The SLCS modification does not affect the probability of an accident, as the control system is not an initiator in any accident. The modification maintains all of the assumptions in the analyses of events for which the system is designed. Thus, the response to these events is unaffected.

Therefore, the proposed changes do not involve a significant increase in the probability or consequences of an accident previously evaluated.

2. Does the proposed change create the possibility of a new or different kind of accident from any accident previously evaluated?

Response: No.

No new accident scenarios, failure mechanisms, or limiting single failures are introduced [that create a new or different accident than previously evaluated] as a result of the proposed changes. All systems, structures, and components previously required for the mitigation of a transient remain capable of fulfilling their intended design functions. The proposed changes have no adverse effects on any safety-related system or component and do not challenge the performance or integrity of any safety-related system.

The proposed changes regarding instrument testing do not involve a physical alteration of the plant (i.e., no new or different type of equipment will be installed, nor will there be a change in the methods governing normal plant operation). The change does not alter assumptions made in the safety analysis, but ensures that the instruments behave as assumed in the accident analysis. The proposed change is consistent with the safety analysis assumptions.

The SLCS system is not an initiator of any accidents.

Therefore, the proposed changes do not create the possibility of a new or different kind of accident from any accident previously evaluated.

3. Does the proposed change involve a significant reduction in a margin of safety?

Response: No.

Operation at the uprated power condition does not involve a significant reduction in a margin of safety. Analyses of the primary fission product barriers have concluded that relevant design criteria remain satisfied, both from the standpoint of the integrity of the primary fission product barrier, and from the standpoint of compliance with the required acceptance criteria. As appropriate, all evaluations have been performed using methods that have either been reviewed or approved by the Nuclear Regulatory Commission, or that are in compliance with regulatory review guidance and standards.

The proposed changes add test requirements that establish instrument performance criteria in TS that are currently required by plant procedures. The testing methods and acceptance criteria for systems, structures, and components, specified in applicable codes and standards (or alternatives approved for use by the NRC) will continue to be met as described in the plant licensing basis including the updated final safety analysis report. There is no impact to safety analysis acceptance criteria as described in the plant licensing basis because no change is made to the accident analysis assumptions. The SLCS modification maintains all of the assumptions in the analyses of events for which the system is designed. Thus, the response to these events is unaffected.

Therefore, the proposed changes do not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

Exelon Generation Company, LLC, Docket No. 50-219, Oyster Creek Nuclear Generating Station, Ocean County, New Jersey

Date of amendment request: February 25, 2010.

Description of amendment request: This amendment request contains sensitive unclassified non-safeguards information (SUNSI). The amendment would revise Technical Specifications to allow temporary changes to the secondary containment boundary during shutdown conditions. Specifically, the proposed change would allow the Reactor Building secondary containment boundary associated with the Trunnion Room to be relocated from the Trunnion Room outer wall and door to the Reactor Building inner walls and penetrations located inside the Trunnion Room.

Basis for proposed no significant hazards consideration determination: As required by 10 CFR 50.91(a), the licensee has provided its analysis of the issue of no significant hazards consideration, which is presented below:

1. [The proposed changes do not involve a significant increase in the probability or consequences of an accident previously evaluated.]

The proposed changes do not involve any modifications to any structures, components, or systems that would affect the probability of an accident previously evaluated in the Oyster Creek Updated Final Safety Analysis Report (UFSAR). Therefore, the proposed changes do not significantly increase the probability of an accident previously evaluated.

The Secondary Containment structure and the [Standby Gas Treatment System (SGTS)], and any component thereof, are not accident initiators. No other accident initiator is affected by the proposed changes. Therefore, the proposed changes do not involve a significant increase in the consequences of an accident previously evaluated.

There are no changes or modifications in the function or operation of the SGTS being proposed to temporarily relocate the Trunnion Room Secondary Containment boundary during Cold Shutdown conditions. Therefore, changing the Secondary Containment boundary for the Trunnion Room will not result in any change to the frequency of an accident or transient previously evaluated in the UFSAR.

The malfunction of any portion of Secondary Containment, including the SGTS, would have the same results and consequences regardless of whether the Secondary Containment boundary is maintained at the Trunnion Room door or inside the Trunnion Room.

Relocating the Secondary Containment boundary during Cold Shutdown conditions will help to improve Secondary Containment integrity. Secondary Containment integrity is maintained by the single Trunnion Room door. The relocated Secondary Containment boundary established inside the Trunnion Room will be more substantial since the penetrations will be blocked and sealed. Less air will be drawn into the Reactor Building during SGTS operation and a larger negative pressure will be maintained in the Reactor Building. As a result, better Secondary Containment response would be expected during any postulated accidents or transients in this configuration.

Since the proposed change to relocate the Secondary Containment boundary will only be implemented when the plant is in a Cold Shutdown condition, when a pipe break accident is not credible and isolation of the Main Steam and Feedwater Supply lines will be maintained by isolation of either the inboard or outboard isolation valves or other engineered isolation mechanisms/devices within Secondary Containment; any release from the [reactor pressure vessel] RPV or any attached system will be contained in the Reactor Building. Once the RPV head is removed, any gaseous release due to fuel damage from any accident or transient would be drawn into the Reactor Building and through the SGTS as designed. The drop of a fuel bundle and postulated release of fission product gases would be drawn into the Reactor Building and through the SGTS as designed. Because the Secondary Containment will be maintained under negative pressure (i.e., greater than −0.25″ water column) when required and the penetrations inside the Trunnion Room will be blocked and sealed, all releases in the Reactor Building, including in the RPV and Spent Fuel Pool, will be contained within Secondary Containment and will not be released into the Trunnion Room. Therefore, the proposed changes do not involve a significant increase in the consequences of an accident previously evaluated in the UFSAR.

Therefore, based on the above information, the proposed changes do not involve a significant increase in the probability or consequences of an accident previously evaluated.

2. [The proposed changes do not create the possibility of a new or different kind of accident from any previously evaluated.]

The proposed changes will not create the possibility for a new or different type of accident from any accident previously evaluated. The proposed changes do not involve any modifications to any structure, systems, or components that would create the possibility of an accident. The Secondary Containment, SGTS[,] and any related equipment important to safety will continue to operate as designed. Component integrity is not challenged. The changes do not result in more adverse conditions or result in any increase in the challenges to safety systems. The systems affected by the changes are used to mitigate the consequences of an accident that would have already occurred. The proposed changes do not allow reduction of the mitigative function of these systems. Therefore, the proposed changes do not create the possibility of a new or different kind of accident.

This temporary configuration change removes the Trunnion Room outer wall and door as part of Secondary Containment during Cold Shutdown and allows the Technical Specifications (TS) required administrative controls for the Trunnion Room door to be relaxed. Secondary Containment integrity will be maintained in accordance with applicable TS requirements and any releases from the RPV or its attached systems will be contained within Secondary Containment and will not be released into the Trunnion Room. All releases within Secondary Containment will be processed by the SGTS. This activity does not change the design, function[,] or operation of any structure, system, or component important to safety other than removing the Trunnion Room as part of the Secondary Containment boundary. Therefore, the proposed activity does not create a possibility for an accident of a different type.

The Secondary Containment, with the exception of the SGTS, is a passive system that cannot and will not result in any malfunction of a structure, system, or component important to safety. No change to the function or operation of the SGTS is being considered as a result of the proposed change to temporarily relocate the Trunnion Room Secondary Containment boundary during Cold Shutdown conditions. Changing the Secondary Containment boundary for the Trunnion Room will not result in any malfunction to a structure, system, or component important to safety. Therefore, the proposed changes do not create a possibility for a malfunction of a structure, system, or component important to safety with a different result than any previously evaluated in the UFSAR.

Therefore, based on the above information, the proposed changes do not create the possibility of a new or different kind of accident from any accident previously evaluated.

3. [The proposed changes do not involve a significant reduction in the margin of safety.]

The Secondary Containment provides protection to the public by containing any radioactive releases that result from transients or accidents contained in the [Oyster Creek Nuclear Generating Station] design bases. With the exception of the SGTS, the Secondary Containment is a passive system that cannot and will not result in any accident or transient evaluated in the UFSAR. No change to the function or operation of the SGTS is being proposed when relocating the Trunnion Room Secondary Containment boundary during Cold Shutdown conditions.

The proposed changes to relocate the Trunnion Room Secondary Containment boundary from the outer wall and door, to the inner walls and penetrations inside the Trunnion Room during Cold Shutdown conditions will not result in any change to the frequency of an accident or transient previously evaluated in the UFSAR.

TS administrative controls will be instituted in support of relocating the Secondary Containment boundary and TS required surveillance testing will be completed to ensure that Secondary Containment integrity can be maintained in the modified configuration within design parameters.

Secondary Containment integrity will be maintained as required, and any release from the RPV or any attached system will be contained in the Reactor Building. The Secondary Containment and SGTS will continue to function as designed in the event of an accident or transient that requires the Secondary Containment to act as a fission product barrier to prevent a radioactive release.

The proposed changes do not adversely impact the operation of any plant structure, system, or component important to safety. The Secondary Containment and the SGTS will continue to function and respond as designed. The proposed changes do not result in a departure from a method of evaluation described in the UFSAR used in establishing the design bases or in the safety analyses.

Therefore, based on the above information, the proposed changes do not involve a significant reduction in a margin of safety.

The NRC staff has reviewed the licensee's analysis and, based on this review, and with the changes noted above in square brackets, it appears that the three standards of 10 CFR 50.92(c) are satisfied. Therefore, the NRC staff proposes to determine that the amendment request involves no significant hazards consideration.

Attorney for licensee: Mr. J. Bradley Fewell, Associate General Counsel, Exelon Generation Company LLC, 4300 Winfield Road, Warrenville, IL 60555.

NRC Branch Chief: Harold Chernoff.

Order Imposing Procedures for Access to Sensitive Unclassified Non-Safeguards Information for Contention Preparation

Carolina Power and Light Company, et al., Docket No. 50-400, Shearon Harris Nuclear Power Plant, Unit 1, Wake and Chatham Counties, North Carolina

Exelon Generation Company, LLC, Docket Nos. 50-352 and 50-353, Limerick Generating Station, Units 1 and 2, Montgomery County, Pennsylvania

Exelon Generation Company, LLC, Docket No. 50-219, Oyster Creek Nuclear Generating Station, Ocean County, New Jersey

A. This Order contains instructions regarding how potential parties to this proceeding may request access to documents containing Sensitive Unclassified Non-Safeguards Information (SUNSI).

B. Within 10 days after publication of this notice of hearing and opportunity to petition for leave to intervene, any potential party who believes access to SUNSI is necessary to respond to this notice may request such access. A “potential party” is any person who intends to participate as a party by demonstrating standing and filing an admissible contention under 10 CFR 2.309. Requests for access to SUNSI submitted later than 10 days after publication will not be considered absent a showing of good cause for the late filing, addressing why the request could not have been filed earlier.

C. The requestor shall submit a letter requesting permission to access SUNSI to the office of the Secretary, U.S. Nuclear Regulatory Commission, Washington, DC 20555-0001, Attention: Rulemakings and Adjudications Staff, and provide a copy to the Associate General Counsel for Hearings, Enforcement and Administration, Office of the General Counsel, Washington, DC 20555-0001. The expedited delivery or courier mail address for both offices is: U.S. Nuclear Regulatory Commission, 11555 Rockville Pike, Rockville, Maryland 20852. The e-mail address for the Office of the Secretary and the Office of the General Counsel are Hearing.Docket@nrc.gov and OGCmailcenter@nrc.gov, respectively.¹ The request must include the following information:

¹ While a request for hearing or petition to intervene in this proceeding must comply with the filing requirements of the NRC's “E-Filing Rule,” the initial request to access SUNSI under these procedures should be submitted as described in this paragraph.

(1) A description of the licensing action with a citation to this Federal Register notice;

(2) The name and address of the potential party and a description of the potential party's particularized interest that could be harmed by the action identified in C.(1);

(3) The identity of the individual or entity requesting access to SUNSI and the requestor's basis for the need for the information in order to meaningfully participate in this adjudicatory proceeding. In particular, the request must explain why publicly-available versions of the information requested would not be sufficient to provide the basis and specificity for a proffered contention;

D. Based on an evaluation of the information submitted under paragraph C.(3) the NRC staff will determine within 10 days of receipt of the request whether:

(1) There is a reasonable basis to believe the petitioner is likely to establish standing to participate in this NRC proceeding; and

(2) The requestor has established a legitimate need for access to SUNSI.

E. If the NRC staff determines that the requestor satisfies both D.(1) and D.(2) above, the NRC staff will notify the requestor in writing that access to SUNSI has been granted. The written notification will contain instructions on how the requestor may obtain copies of the requested documents, and any other conditions that may apply to access to those documents. These conditions may include, but are not limited to, the signing of a Non-Disclosure Agreement or Affidavit, or Protective Order ² setting forth terms and conditions to prevent the unauthorized or inadvertent disclosure of SUNSI by each individual who will be granted access to SUNSI.

² Any motion for Protective Order or draft Non-Disclosure Affidavit or Agreement for SUNSI must be filed with the presiding officer or the Chief Administrative Judge if the presiding officer has not yet been designated, within 30 days of the deadline for the receipt of the written access request.

F. Filing of Contentions. Any contentions in these proceedings that are based upon the information received as a result of the request made for SUNSI must be filed by the requestor no later than 25 days after the requestor is granted access to that information. However, if more than 25 days remain between the date the petitioner is granted access to the information and the deadline for filing all other contentions (as established in the notice of hearing or opportunity for hearing), the petitioner may file its SUNSI contentions by that later deadline.

G. Review of Denials of Access.

(1) If the request for access to SUNSI is denied by the NRC staff either after a determination on standing and need for access, or after a determination on trustworthiness and reliability, the NRC staff shall immediately notify the requestor in writing, briefly stating the reason or reasons for the denial.

(2) The requestor may challenge the NRC staff's adverse determination by filing a challenge within 5 days of receipt of that determination with: (a) The presiding officer designated in this proceeding; (b) if no presiding officer has been appointed, the Chief Administrative Judge, or if he or she is unavailable, another administrative judge, or an administrative law judge with jurisdiction pursuant to 10 CFR 2.318(a); or (c) if another officer has been designated to rule on information access issues, with that officer.

H. Review of Grants of Access. A party other than the requestor may challenge an NRC staff determination granting access to SUNSI whose release would harm that party's interest independent of the proceeding. Such a challenge must be filed with the Chief Administrative Judge within 5 days of the notification by the NRC staff of its grant of access.

If challenges to the NRC staff determinations are filed, these procedures give way to the normal process for litigating disputes concerning access to information. The availability of interlocutory review by the Commission of orders ruling on such NRC staff determinations (whether granting or denying access) is governed by 10 CFR 2.311.³

³ Requestors should note that the filing requirements of the NRC's E-Filing Rule (72 FR 49139; August 28, 2007) apply to appeals of NRC staff determinations (because they must be served on a presiding officer or the Commission, as applicable), but not to the initial SUNSI request submitted to the NRC staff under these procedures.

I. The Commission expects that the NRC staff and presiding officers (and any other reviewing officers) will consider and resolve requests for access to SUNSI, and motions for protective orders, in a timely fashion in order to minimize any unnecessary delays in identifying those petitioners who have standing and who have propounded contentions meeting the specificity and basis requirements in 10 CFR Part 2. Attachment 1 to this Order summarizes the general target schedule for processing and resolving requests under these procedures.

It Is So Ordered.
Dated at Rockville, Maryland, this 1st day of June 2010.
For the Nuclear Regulatory Commission.
Annette L. Vietti-Cook,
Secretary of the Commission.

Attachment 1—General Target Schedule for Processing and Resolving Requests for Access to Sensitive Unclassified Non-Safeguards Information in This Proceeding
Day | Event/Activity
0 | Publication of Federal Register notice of hearing and opportunity to petition for leave to intervene, including order with instructions for access requests.
10 | Deadline for submitting requests for access to Sensitive Unclassified Non-Safeguards Information (SUNSI) with information: supporting the standing of a potential party identified by name and address; describing the need for the information in order for the potential party to participate meaningfully in an adjudicatory proceeding.
60 | Deadline for submitting petition for intervention containing: (i) Demonstration of standing; (ii) all contentions whose formulation does not require access to SUNSI (+ 25 Answers to petition for intervention; + 7 requestor/petitioner reply).
20 | Nuclear Regulatory Commission (NRC) staff informs the requestor of the staff's determination whether the request for access provides a reasonable basis to believe standing can be established and shows need for SUNSI. (NRC staff also informs any party to the proceeding whose interest independent of the proceeding would be harmed by the release of the information.) If NRC staff makes the finding of need for SUNSI and likelihood of standing, NRC staff begins document processing (preparation of redactions or review of redacted documents).
25 | If NRC staff finds no “need” or no likelihood of standing, the deadline for requestor/petitioner to file a motion seeking a ruling to reverse the NRC staff's denial of access; NRC staff files copy of access determination with the presiding officer (or Chief Administrative Judge or other designated officer, as appropriate). If NRC staff finds “need” for SUNSI, the deadline for any party to the proceeding whose interest independent of the proceeding would be harmed by the release of the information to file a motion seeking a ruling to reverse the NRC staff's grant of access.
30 | Deadline for NRC staff reply to motions to reverse NRC staff determination(s).
40 | (Receipt + 30) If NRC staff finds standing and need for SUNSI, deadline for NRC staff to complete information processing and file motion for Protective Order and draft Non-Disclosure Affidavit. Deadline for applicant/licensee to file Non-Disclosure Agreement for SUNSI.
A | If access granted: Issuance of presiding officer or other designated officer decision on motion for protective order for access to sensitive information (including schedule for providing access and submission of contentions) or decision reversing a final adverse determination by the NRC staff.
A + 3 | Deadline for filing executed Non-Disclosure Affidavits. Access provided to SUNSI consistent with decision issuing the protective order.
A + 28 | Deadline for submission of contentions whose development depends upon access to SUNSI. However, if more than 25 days remain between the petitioner's receipt of (or access to) the information and the deadline for filing all other contentions (as established in the notice of hearing or opportunity for hearing), the petitioner may file its SUNSI contentions by that later deadline.
A + 53 | (Contention receipt + 25) Answers to contentions whose development depends upon access to SUNSI.
A + 60 | (Answer receipt + 7) Petitioner/Intervenor reply to answers.
>A + 60 | Decision on contention admission.

[FR Doc. 2010-13617 Filed 6-7-10; 8:45 am]

BILLING CODE 7590-01-P